DEPARTMENT OF TRANSPORTATION

Federal Aviation Administration

14 CFR Part 71

[Docket No. FAA-2020-0552; Airspace Docket No. 18-ANM-11]

RIN 2120-AA66

Amendment and Establishment of Class E Airspace; Coeur D'Alene, ID

AGENCY: Federal Aviation Administration (FAA), DOT.

ACTION: Final rule.

SUMMARY: This action modifies the Class E surface area airspace and establishes Class E airspace extending upward from 700 feet above the surface at Coeur D'Alene-Pappy Boyington Field, Coeur D'Alene, ID, to support the Instrument Flight Rules (IFR) operations under standard instrument approach and departure procedures at the airport, for the safety and management of aircraft within the National Airspace System. Additionally, an editorial change is being made to the legal description replacing “Airport/Facility Directory” with the term “Chart Supplement” and updating the name of the airport to match the FAA aeronautical database.

DATES: Effective 0901 UTC, December 31, 2020. The Director of the Federal Register approves this incorporation by reference action under Title 1 Code of Federal Regulations part 51, subject to the annual revision of FAA Order 7400.11 and publication of conforming amendments.

ADDRESSES: FAA Order 7400.11E, Airspace Designations and Reporting Points, and subsequent amendments can be viewed online at https://www.faa.gov/air_traffic/publications/. For further information, you can contact the Airspace Policy Group, Federal Aviation Administration, 800 Independence Avenue SW, Washington, DC, 20591; telephone: (202) 267-8783. The Order is also available for inspection at the National Archives and Records Administration (NARA).

For information on the availability of FAA Order 7400.11E at NARA, email fedreg.legal@nara.gov or go to https://www.archives.gov/federal-register/cfr/ibr-locations.html.

FOR FURTHER INFORMATION CONTACT: Richard Roberts, Federal Aviation Administration, Western Service Center, Operations Support Group, 2200 S. 216th Street, Des Moines, WA 98198; telephone (206) 231-2245.

SUPPLEMENTARY INFORMATION:

Authority for This Rulemaking

The FAA's authority to issue rules regarding aviation safety is found in Title 49 of the United States Code (U.S.C.). Subtitle I, Section 106 describes the authority of the FAA Administrator. Subtitle VII, Aviation Programs, describes in more detail the scope of the Agency's authority. This rulemaking is promulgated under the authority described in Subtitle VII, Part A, Subpart I, Section 40103. Under that section, the FAA is charged with prescribing regulations to assign the use of airspace necessary to ensure the safety of aircraft and the efficient use of airspace. This regulation is within the scope of that authority as it amends the Class E surface airspace and establishes Class E airspace extending upward from 700 feet AGL at Coeur D'Alene-Pappy Boyington Field, Coeur D'Alene, ID, to support the Instrument Flight Rules (IFR) operations under standard instrument approach and departure procedures at the airport, for the safety and management of aircraft within the National Airspace System. Additionally, an editorial change is being made to the legal description replacing “Airport/Facility Directory” with the term “Chart Supplement” and updating the name of the airport to match the FAA aeronautical database.

History

The FAA published a notice of proposed rulemaking in the Federal Register (85 FR 47718; August 6, 2020) for Docket No. FAA-2020-0552 to amend the Class E surface airspace, and establish the Class E airspace extending upward from 700 feet above the earth at Coeur D'Alene-Pappy Boyington Field, Coeur D'Alene, ID in support of IFR operations. Interested parties were invited to participate in this rulemaking effort by submitting written comments on the proposal to the FAA. No comments were received.

Class E airspace designations are published in paragraph 6002 and 6005 of FAA Order 7400.11E, dated July 21, 2020 and effective September 15, 2020, which is incorporated by reference in 14 CFR 71.1. The Class D and Class E airspace designations listed in this document will be published subsequently in the Order.

Availability and Summary of Documents for Incorporation by Reference

This document amends FAA Order 7400.11E, Airspace Designations and Reporting Points, dated July 21, 2020, and effective September 15, 2020. FAA Order 7400.11E is publicly available as listed in the ADDRESSES section of this document. FAA Order 7400.11E lists Class A, B, C, D, and E airspace areas, air traffic service routes, and reporting points.

The Rule

The FAA is amending 14 CFR part 71 by amending the description of the Class E surface area and establishing Class E airspace extending upward from 700 feet above the surface at Coeur D'Alene-Pappy Boyington Field, Coeur D'Alene, ID.

The Class E surface airspace 3.5 miles each side of the VOR/DME 251° radial west of the airport is being removed. The lateral boundary for the area south of the airport is reduced from 1.8 miles each side of the 183° bearing to 1.3 miles and extend 6 miles from the airport instead of 8 miles. The additional airspace, in these two areas, is no longer required to support instrument operations. An area 1.8 miles each side of the 023° bearing is being added and extends 5 miles from the airport. This enables instrument departures to reach 700 feet AGL before exiting the surface area.

Class E airspace extending upward from 700 feet above the surface is being established to within 4.4 miles of the airport with three areas extending beyond the 4.4-mile radius. One area, 4.4 miles each side of the 250° bearing, extends from the airport 14.4 miles west. This section accommodates the ILS and RNAV approaches. Another area is being established, 1.3 miles each side of the 183° bearing and extending from the airport 10 miles south, to support the VOR approach. The third area extends 1.8 miles each side of the 023° bearing 8 miles northeast from the airport. This section protects aircraft using the Obstacle Departure Procedure. This airspace is necessary to support IFR approach and departure procedures at the airport.

Additionally, an editorial change is being made to the legal description replacing “Airport/Facility Directory” with the term “Chart Supplement” and updating the name of the airport to match the FAA's aeronautical database.

FAA Order 7400.11, Airspace Designations and Reporting Points, is published yearly and effective on September 15.

Regulatory Notices and Analyses

The FAA has determined that this regulation only involves an established body of technical regulations for which frequent and routine amendments are necessary to keep them operationally current, is non-controversial and unlikely to result in adverse or negative comments. It, therefore: (1) Is not a “significant regulatory action” under Executive Order (E.O.) 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, will not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11E, Airspace Designations and Reporting Points, dated July 21, 2020 and effective September 15, 2020, is amended as follows:

Paragraph 6002 Class E Airspace Designated as Surface Areas.

* * * * *

ANM ID E2 Coeur D'Alene, ID [Amended]

Coeur D'Alene—Pappy Boyington Field

(Lat. 47°46′28″ N, long 116°49′11″ W)

That airspace within a 4.4-mile radius of the Coeur D'Alene—Pappy Boyington Field, and within 1.3 miles each side of the 183° bearing extending from the 4.4-mile radius to 6 miles south of the airport, and that airspace 1.8 miles each side of the 023° bearing extending from the 4.4-mile radius to 5 miles northeast of the airport. This Class E airspace is effective during the specific dates and times established in advance by a notice to airmen. The effective date and time will thereafter be continuously published in the Chart Supplement.

Paragraph 6005 Class E Airspace Areas Extending Upward From 700 Feet or More Above the Surface of the Earth.

* * * * *

ANM WA E5 Coeur D'Alene, ID [New]

Coeur d'Alene—Pappy Boyington Field

(Lat. 47°46′28″ N, long 116°49′11″ W)

That airspace within a 4.4-mile radius of the Coeur d'Alene—Pappy Boyington Field, and within 1.3 miles each side of the 183° bearing from the airport extending from the 4.4-mile radius to 10 miles south of the airport, and that airspace 4.4 miles each side of the 250° bearing from the Coeur d'Alene—Pappy Boyington Field extending from the 4.4-mile radius to 14.4 miles west of the airport and that airspace 1.8 miles each side of the 023° bearing from the Coeur d'Alene—Pappy Boyington Field extending from the 4.4-mile radius to 8 miles northeast from the airport.

Issued in Seattle, Washington, on October 9, 2020.
Byron Chew,
Acting Group Manager, Operations Support Group, Western Service Center.

[FR Doc. 2020-22906 Filed 10-15-20; 8:45 am]

BILLING CODE 4910-13-P